ENVIRONMENTAL PROTECTION AGENCY

[FRL-7068-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held October 9-11, 2001 at the Hotel Washington, Washington, DC. The CHPAC was created to advise the Environmental Protection Agency in the development of regulations, guidance and policies to address children's environmental health.

DATES: Tuesday, October 9, 2001, Science Work Group meeting only; plenary sessions Wednesday, October 10 and Thursday, October 11, 2001.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: Agenda Items: The meetings of the CHPAC are open to the public. The Science and Research Work Group will meet on Tuesday, October 9 from 9:00 a.m. to 3:00 p.m. The plenary CHPAC will meet on Wednesday, October 10 from 9 a.m. to 5:30 p.m., with a public comment period at 5:00 p.m., and on Thursday, October 11 from 9 a.m. to 12:30 p.m. The plenary session will open with introductions and a review of the agenda and objectives for the meeting. Agenda items include highlights of the Office of Children's Health Protection (OCHP) activities and a report from the Science Work Group, the Schools Ad Hoc Group. Other potential agenda items include informational panels on farmworker protection, and indoor air issues.

Dated: September 17, 2001.
Joanne K. Rodman,
Designated Federal Official.

[FR Doc. 01-24255 Filed 9-26-01; 8:45 am]

BILLING CODE 6560-50-P